DEPARTMENT OF HEALTH AND HUMAN SERVICES

Administration for Children and Families

Proposed Information Collection Activity; Comment Request

Title: Descriptive Study of Early Head Start (Early Head Start Family and Child Experiences Study; Baby FACES).

OMB No.: 0970-0354

Description: The Administration for Children and Families (ACF), U.S. Department of Health and Human Services (HHS), anticipates continuing data collection for wave 4 of the parent interview, teacher child reports, care provider interviews and observations, direct child assessments, program director interviews, and family service tracking for the peri-natal cohort of the Descriptive Study of Early Head Start (Early Head Start Family and Child Experiences Study; Baby FACES). Data collection will continue for an additional 12 months beyond the current date of expiration (October 31, 2011).

This data collection is a part of Baby FACES, which is an important opportunity to provide a description of the characteristics, experiences, and outcomes of Early Head Start children and families, and Early Head Start Program services and delivery. All of the information obtained will be used to help Early Head Start improve services to infants and toddlers and their families. Baby FACES uses a longitudinal age cohort study design that selected all children in the spring of 2009 that were within a four month peri-natal window. These children will be followed in the study until they are age 3 unless they leave the Early Head Start before reaching that age.

Materials for the wave 4 program visit data collection effort, previously submitted to OMB, covered peri-natal and age 1 cohort data collections. Data collection for the age 1 cohort will be completed by October 31, 2011. ACF anticipates collecting data for an additional 12 months in order to complete data collection for the peri-natal cohort.

Respondents: Program Directors, teachers and home visitors of sampled children, parents of sample children, sampled children.

Estimates of Annualized Burden Hours

As in the first three waves, the proposed data collection does not impose a financial burden on respondents. Respondents will not incur any expenses other than the time spent completing the interviews, reports and direct assessments.

The estimated annual burden for study respondents—parents, children, and program staff—is listed in the table below.

Response times are the same as reported in the initial OMB statement. The times were derived from previous studies using the same instruments with a similar population and confirmed with our population during earlier rounds of data collection. The number of respondents is based on the number of perinatal cohort members as of spring 2010 (our most recent round of data collection).

Annual Burden Estimates
Instrument | Number of respondents | Number of responses per respondent | Average burden hours per response | Total burden hours
Parent Interview | 135 | 1 | 1 | 135
Program Director Interview | 89 | 1 | 1 | 89
Child Care Provider Interview | 27 | 1 | 1 | 27
Home Visitor Interview | 41 | 1 | .75 | 31
Primary Caregiver/Home Visitor Child Rating | 68 | 2.6 | .25 | 44
Family Service Tracking | 68 | 136 | .167 | 1,544
Child Direct Assessment | 135 | 1 | 1 | 135
Parent-Child Interaction | 135 | 1 | .25 | 34
Estimated Total Annual Burden Hours |  |  |  | 2,039

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 28, 2011.
Steven M. Hanmer,
Reports Clearance Officer.

[FR Doc. 2011-7667 Filed 3-31-11; 8:45 am]

BILLING CODE 4184-03-M